ENVIRONMENTAL PROTECTION AGENCY

[FRL-7880-9]

Integrated Risk Information System (IRIS); Announcement of 2005 Program; Request for Information

AGENCY: Environmental Protection Agency.

ACTION: Notice; announcement of IRIS 2005 program agenda and request for scientific information on human health effects that may result from exposure to chemical substances.

SUMMARY: The U.S. Environmental Protection Agency (EPA) is announcing the IRIS 2005 agenda and requesting scientific information on health effects that may result from exposure to the chemical substances for which EPA is starting assessments this year.

The Integrated Risk Information System (IRIS) is an EPA database that contains the Agency's scientific consensus positions on human health effects that may result from exposure to chemical substances in the environment. On February 9, 2004 (69 FR 5971), EPA announced the 2004 IRIS agenda, with solicitation of scientific information from the public for consideration in assessing health effects from specific chemical substances. All assessments currently in progress or completed in 2004 are listed in this notice. This notice also provides an update on EPA's efforts to improve the IRIS database.

DATES: Please submit any scientific information in response to this notice in accordance with the instructions provided at the end of this notice by May 3, 2005.

ADDRESSES: Please submit relevant scientific information identified by docket ID number ORD-2003-0016, online at http://www.epa.gov/edocket (EPA's preferred method); by e-mail to oei.docket@epa.gov; mailed to EPA Docket Center, Environmental Protection Agency, Mailcode: 2822T, 1200 Pennsylvania Ave., NW., Washington, DC 20460-0001; or by hand delivery or courier to EPA Docket Center, EPA West, Room B102, 1301 Constitution Ave., NW., Washington, DC, between 8:30 a.m. and 4:30 p.m. Monday through Friday, excluding legal holidays. Comments on a disk or CD-ROM should be formatted in Wordperfect or ASCII file, avoiding the use of special characters and any form of encryption, and may be mailed to the mailing address above.

FOR FURTHER INFORMATION CONTACT: For information on the IRIS program, contact Amy Mills, IRIS Program Director, National Center for Environmental Assessment, (mail code 8601D), Office of Research and Development, U.S. Environmental Protection Agency, Washington, DC 20460; telephone: (202) 564-3204, facsimile: (202) 565-0075; or e-mail: mills.amy@epa.gov.

For general questions about access to IRIS, or the content of IRIS, please call the IRIS Hotline at (202) 566-1676 or send electronic mail inquiries to hotline.iris@epa.gov.

SUPPLEMENTARY INFORMATION:

Background

IRIS is an EPA database containing Agency scientific positions on potential adverse human health effects that may result from exposure to chemical substances found in the environment.¹ IRIS currently provides information on health effects associated with more than 500 chemical substances.

¹ EPA notes that information in the IRIS database has no preclusive effect and does not predetermine the outcome of any rulemaking. When EPA uses such information to support a rulemaking, the scientific basis for, and the application of, that information are subject to comment.

The database includes chemical-specific summaries of qualitative and quantitative health information in support of the first two steps of the risk assessment process, i.e., hazard identification and dose-response evaluation. Combined with specific situational exposure assessment information, the information in IRIS may be used as a source in evaluating potential public health risks from environmental contaminants.

EPA's overall process for developing IRIS assessments consists of: (1) An annual Federal Register announcement of EPA's IRIS agenda and call for scientific information from the public on selected chemical substances; (2) a search of the scientific literature; (3) development of IRIS summaries and support documents; (4) agency review; (5) external peer review; (6) management review and approval; and (7) entry of IRIS summaries and support documents into the IRIS database (http://www.epa.gov/iris).

The IRIS Annual Agenda

Each year, EPA develops a list of priority chemical substances and an annual agenda for the IRIS program. EPA uses four general criteria to set these priorities: (1) EPA statutory, regulatory, or program-specific implementation needs; (2) availability of new scientific information or methodology that might significantly change the current IRIS information; (3) interest to other levels of government or the public; and (4) availability of other scientific assessment documents and only a modest additional effort would be needed to complete the review and documentation for IRIS. The decision to assess any given chemical substance hinges on available Agency resources. Availability of risk assessment guidance, guidelines, and science policy decisions may also have an effect on the timing of EPA's decision to assess a chemical substance.

Consistent with previous Federal Register notices announcing the annual IRIS agenda, EPA is soliciting public involvement in new assessments starting in 2005. While EPA conducts a thorough literature search for each chemical substance, there may be unpublished studies or other primary technical sources that we may not otherwise obtain through open literature searches. We would appreciate receiving scientific information from the public during the information gathering stage for the list of new assessments provided in this notice. Interested persons should provide scientific analyses, studies, and other pertinent scientific information. Also note, if you have submitted information previously to the IRIS Submission Desk, there is no need to resubmit that information. While EPA is primarily soliciting information on new 2005 assessments announced in this notice, the public may submit information on any chemical substance at any time.

This notice provides: (1) A list of IRIS assessments completed in 2004; (2) a list of IRIS assessments in progress; (3) a list of new IRIS assessments starting in 2005; (4) an update on EPA's effort to search for new scientific studies on IRIS chemicals; (5) an update on other improvements underway in the IRIS program; and (6) instructions to the public for submitting scientific information to EPA pertinent to the development of new IRIS assessments.

Assessments Completed in 2004

The following assessments were completed and entered into IRIS in 2004 and early 2005. These assessments were listed in the Federal Register of February 9, 2004 (69 FR 5971). All health endpoints associated with chronic exposure, cancer and noncancer, were assessed unless otherwise noted. Where information was available, both qualitative and quantitative assessments were developed.

Substance name | CAS No.
boron | 7440-42-8
ethylene dibromide (1,2-dibromoethane) | 106-93-4
lead (updated qualitative discussion) | 7349-92-1
2-methylnaphthalene | 91-57-6
perchlorate and perchlorate salts | 7790-98-9
| 7791-03-9
| 7778-74-7
| 7601-89-0

Assessments in Progress

The following assessments are underway. Each was listed in the 2004 IRIS agenda. The status and planned milestone dates for each assessment can be found on the IRIS Track system, accessible from the IRIS database. All health endpoints due to chronic exposure, cancer and noncancer, are being assessed unless otherwise noted. For all endpoints assessed, both qualitative and quantitative assessments are being developed where information is available. Those denoted with an asterisk (*) may require additional time for analysis or peer review due to their large databases or complex assessment issues. Substances denoted with a double asterisk (**) are being evaluated for effects from acute and/or other less-than-lifetime exposure durations. These substances are part of a pilot test to evaluate the application of methods, procedures, and resource needs for adding health effects information for less-than-lifetime exposure duration to IRIS.

Substance name | CAS No.
acetaldehyde | 75-07-0
acrolein** | 107-02-8
acrylamide | 79-06-1
acrylonitrile | 107-13-1
aldicarb/aldicarb sulfoxide | 116-06-3/1646-87-3
aldicarb sulfone | 1646-88-4
arsenic | 7440-38-2
asbestos (noncancer effects)* | 1332-21-4
benzene** | 71-43-2
benzo(a)pyrene | 50-32-8
beryllium (cancer effects) | 7440-41-7
bromobenzene | 108-86-1
bromodichloromethane | 75-27-4
bromoform | 75-25-2
cadmium | 7440-43-9
carbon tetrachloride | 56-23-5
chloroethane | 75-00-3
chloroform (inhalation route) | 67-66-3
chloroprene | 126-99-8
cobalt | 7440-48-4
copper | 7440-50-8
cryptosporidium | [n.a.]
dibromochloromethane | 124-48-1
dibutyl phthalate (chronic; less-than-lifetime** exposures) | 84-74-2
1,2-dichlorobenzene | 95-50-1
1,3-dichlorobenzene | 541-73-1
1,4-dichlorobenzene | 106-46-7
1,2-dichloroethylene | 540-59-0
di(2-ethylhexyl)adipate (DEHA) | 103-23-1
di(2-ethylhexyl)phthalate | 117-81-7
1,4-dioxane | 123-91-1
ethanol | 64-17-5
ethyl tertiary butyl ether | 637-92-3
ethylbenzene | 100-41-4
ethylene dichloride | 107-06-2
ethylene glycol monobutyl ether (cancer effects) | 111-76-2
ethylene oxide (cancer effects; noncancer acute** exp.) | 75-21-8
formaldehyde* | 50-00-0
hexachlorobutadiene | 87-68-3
hexachloro- cyclopentadiene** | 77-47-4
hexahydro-1,3,5- trinitro-triazine (RDX)* | 121-82-4
n-hexane | 110-54-3
hydrogen cyanide | 74-90-8
hydrogen sulfide** | 7783-06-4
isopropanol | 67-63-0
kepone | 143-50-0
methanol | 67-56-1
methyl tert-butyl ether (MTBE) | 1634-04-4
methylene chloride | 75-09-2 (dichloromethane)
mirex | 2385-85-5
naphthalene (cancer effects, inhalation route) | 91-20-3
nickel (soluble salts) | [n.a.—various]
nitrobenzene | 98-95-3
PAH mixtures | [n.a.—various]
pentachlorophenol | 87-86-5
perfluorooctanoic acid—ammonium salt (PFOA) | 3825-26-1
perfluorooctane sulfonate—potassium salt (PFOS) | 2795-39-3
phosgene (chronic; acute** exposure) | 75-44-5
polybrominated diphenyl ethers (tetra, penta, hexa, deca-PDEs) | [n.a.—various]
polychlorinated biphenyls (PCBs) (noncancer endpoints) | 1336-36-3
propionaldehyde | 123-38-6
refractory ceramic fibers | [n.a.]
styrene | 100-42-5
2,3,7,8-TCDD (dioxin)* | 1746-01-6
tetrachloroethylene (perchloroethylene) | 127-18-4
tetrahydrofuran | 109-99-9
thallium | 7440-28-0
toluene | 108-88-3
trichloroacetic acid | 76-03-9
1,1,1-trichloroethane (chronic; less-than-lifetime** exp.) | 71-55-6
trichloroethylene* | 79-01-6
1,2,3-trichloropropane | 96-18-4
2,2,4-trimethylpentane | 540-84-1
uranium compounds | [n.a.—various]
vinyl acetate | 108-05-4
zinc and compounds | 7440-66-6

IRIS summaries and support documents for all substances listed as on-going assessments in 2005 will be provided on the IRIS Web site at http://www.epa.gov/iris as they are completed. This publicly available Web site is EPA's primary location for IRIS documents. In addition, external peer review drafts of IRIS assessments can be found during their peer review periods via the Recent Additions page of the IRIS Web site. Interested parties should check the “Recent Additions” page frequently for the availability of these drafts.

Information Requested on New Assessments for 2005

EPA will continue building and updating the IRIS database. The Agency recognizes that a number of the assessments on IRIS need updating to incorporate new scientific information and methodologies. Further, many additional substances are candidates for adding to IRIS. However, due to limited resources in the Agency to address the spectrum of needs, priorities are set based on specific considerations.

EPA developed the list of priority chemicals for 2005 by sorting chemical nominations from the EPA programs and the public according to the following considerations: (1) Multiple nominations were received for a chemical from EPA programs and in response to the August 2003 Federal Register notice requesting public nominations (68 FR 48359); (2) nominations demonstrated more than one of the following: (a) Statutory, regulatory or programmatic need, (b) interest to other levels of government or the public, and (c) availability of other assessment documents for use in developing an IRIS assessment. To refine the list of nominations, high priority was given to EPA programs' priority nominations; (3) nominations for which significant new health effects information is available on which to base an assessment; and (4) nominations for which Agency resources are available to conduct the assessment. Available health effects information and EPA resources are considered critical for selecting a chemical for assessment.

Based on EPA's prioritization process described above, the following IRIS health assessments have been selected for initiation in 2005. The primary reasons for selecting each chemical substance are indicated. “CAA need” refers to EPA's responsibilities under the Clean Air Act; “CERCLA need” refers to EPA's responsibilities under the Comprehensive Environmental Response, Compensation and Liability Act, or Superfund. “RCRA need” refers to EPA's responsibilities under the Resource Conservation and Recovery Act.

The Agency is requesting information from the public for consideration in the development of these assessments. For all endpoints assessed, both qualitative and quantitative assessments will be developed where information is available.

Substance name | CAS No. | Reason for selection
butyl benzyl phthalate | 85-68-7 | CERCLA site cleanup and RCRA need. Newer scientific information is available to update older assessment.
cerium | 1306-38-3 | CAA need. Scientific information is available to develop a first IRIS assessment.
hexachloroethane | 67-72-1 | CERCLA site cleanup need. Newer scientific information is available to update older assessment.
2-hexanone | 591-78-6 | CERCLA site cleanup and RCRA need. Scientific information is available to develop a first IRIS assessment.
naphthalene (non-cancer) | 91-20-3 | CERCLA site cleanup need. Newer scientific information is available to update older assessment.
platinum | 7440-06-4 | CAA need. Scientific information is available to develop a first IRIS assessment.
1,1,2,2-tetrachloroethane | 79-34-5 | CAA need. Newer scientific information is available to update older assessment.

Systematic Update of the IRIS Database

While the annual prioritization process responds to the needs expressed by IRIS users, EPA is also systematically updating the IRIS database. The IRIS Program is conducting a screening-level review of the available scientific literature for all chemicals in the IRIS database that are not under active reassessment. The purpose of EPA's screening level review is to reach preliminary determinations regarding the likelihood that a full reassessment based on an evaluation of new health effects literature could potentially result in significant changes to existing toxicity values or cancer weight-of-evidence designations. The process consists of a preliminary search and review of the literature through standard toxicological bibliographic databases (titles and abstracts) and selected literature compilations to identify new major studies that have become available since the existing IRIS assessment was completed. Screening-level reviews were completed for 460 chemicals in the IRIS database in 2004, that is, essentially all chemicals in the database with the exception of those that are on the current IRIS agenda and are being fully reassessed. For the chemicals reviewed, no major new health effects studies were found that would be likely to significantly change existing toxicity values for about 63% of the chemicals. These findings have been added to the “EPA Review and Documentation” sections of individual IRIS Summaries. The literature screen has been re-initiated in 2005 to continuously check the availability of new literature and note findings in the IRIS database.

As planned and discussed in the previous annual agenda, EPA is using findings from this literature screen as a basis for systematically updating IRIS by performing a more in-depth review of the extant health data. This more in-depth review is verifying results from the IRIS literature screening review. For those chemicals confirmed to be without new health information to change the existing assessment, EPA is updating IRIS Summaries to indicate that the scientific information upon which the assessment was based is still current. Twelve assessments were updated with this information in 2004, 30 are in progress for 2005.

We continue to request the submission of any scientific information that you would like EPA to consider in confirming the results of the literature screening review and literature screen verification. You can locate the results for a chemical assessment on the IRIS Web site (http://www.epa.gov/iris) by selecting the specific IRIS Summary of interest.

Other Improvements to the IRIS Program—Update

As discussed in the Federal Register notice announcing the 2004 agenda, EPA has taken steps to improve the IRIS program and its products through a series of program reforms. EPA has expanded its central IRIS Staff to better manage the program and ensure scientific quality and consistency. In addition, external scientific peer reviews are being conducted by panel meetings rather than by mail reviews. This step is being taken to provide the best possible scientific review of each assessment. Further, EPA is now positioning the external peer review at the end of each IRIS assessment review process, strengthening the role of peer review in informing the outcome of the process. A public comment period is now standard practice prior to panel peer review meetings, and the meetings are open to the public for observation. These steps have been taken to facilitate scientific input from the public and to make the peer review process more transparent. These steps require extra time to implement, and therefore will result in somewhat longer time frames for completion of IRIS assessments.

As mentioned previously in this notice, in 2004 EPA implemented a new publically available tracking system for IRIS assessments in progress. IRIS Track provides the status and planned milestones in the development and review process for each assessment. The system was put in place to provide more information and transparency for IRIS users. IRIS Track is kept continually updated. It can be accessed from the IRIS home page.

General Information

A. How Can I Get Copies of Related Information?

EPA has established an official public docket for this action under Docket ID No. ORD 2003-0016. The official public docket is the collection of materials that is available for public viewing at the Office of Environmental Information (OEI) Docket in the EPA Docket Center, EPA West, Room B102, 1301 Constitution Ave, NW., Washington, DC. The EPA Docket Center Public Reading Room is open from 8:30 a.m. to 4:30 p.m., Monday through Friday, excluding legal holidays. The telephone number for the Public Reading Room is (202) 566-1744, and the telephone number for the OEI Docket is (202) 566-1752.

An electronic version of the public docket is available through EPA's electronic public docket and comment system. EPA Dockets at http://www.epa.gov/edocket/ may be used to submit or view public submissions, access the index listing of the contents of the official public docket, and to access those documents in the public docket that are available electronically. Once in the system, select “search,” then key in the appropriate docket identification number.

It is important to note that EPA's policy is that public submissions, whether submitted electronically or in paper, will be made available for public viewing in EPA's electronic public docket as EPA receives them and without change, unless the submission contains copyrighted material, CBI, or other information whose disclosure is restricted by statute. Information claimed as CBI and other information whose disclosure is restricted by statute is not included in the official public docket or in EPA's electronic public docket. EPA's policy is that copyrighted material, including copyrighted material contained in a public comment, will not be placed in EPA's electronic public docket but will be available only in printed, paper form in the official public docket. Although not all docket materials may be available electronically, you may still access any of the publicly available docket materials through the EPA Docket Center.

B. How and To Whom Do I Submit Scientific Information?

Scientific information may be submitted as provided in the ADDRESSES section. Please submit scientific information within 60 days of this notice, provide all information (studies, reports, articles, etc.) you wish to submit. Please ensure that your submissions are submitted within the specified period. Information received after the close of the submission period will be marked late, and may be considered if time permits. Your submission should specify the chemical substance to which your information pertains, CASRN (Chemical Abstract Service Registry Number), and the topic or aspect of the assessment that is being addressed (e.g., carcinogenicity, mode of action). In addition, when you submit results of new health effects studies concerning existing substances on IRIS, you should include a specific explanation of how the study results could change the information in IRIS. All citations should be listed in scientific citation format, that is, author(s), title, journal, and date. Include names, addresses and telephone numbers of person(s) to contact for additional information.

If you submit electronic information, EPA recommends that you include your name, mailing address, and an e-mail address or other contact information in the body of your submission and with any disk or CD ROM you submit. This ensures that you can be identified as the submitter of the information and allows EPA to contact you in case EPA cannot read your information due to technical difficulties or needs further information on the substance of your submission. Any identifying or contact information provided in the body of submitted information will be included as part of the submission information that is placed in the official public docket, and made available in EPA's electronic public docket. If EPA cannot read your information due to technical difficulties and cannot contact you for clarification, EPA may not be able to consider your information.

Your use of EPA's electronic public docket to submit information to EPA electronically is EPA's preferred method for receiving submissions. The electronic public docket system is an “anonymous access” system, which means EPA will not know your identity, e-mail address, or other contact information unless you provide it in the body of your submission. In contrast to EPA's electronic public docket, EPA's electronic mail (e-mail) system is not an “anonymous access” system. If you send e-mail directly to the Docket without going through EPA's electronic public docket, your e-mail address is automatically captured and included as part of the submission that is placed in the official public docket, and made available in EPA's electronic public docket.

You may also request to augment your submission with a scientific briefing to EPA staff. Such requests should be made directly to Amy Mills, IRIS Program Director (see FOR FURTHER INFORMATION CONTACT).

Dated: February 28, 2005.
Peter Preuss,
Director, National Center for Environmental Assessment.

[FR Doc. 05-4275 Filed 3-3-05; 8:45 am]

BILLING CODE 6560-50-P